DEPARTMENT OF COMMERCE

National Oceanic and Atmospheric Administration

RIN: 0648-XA604

Mid-Atlantic Fishery Management Council (MAFMC); Meetings

AGENCY: National Marine Fisheries Service (NMFS), National Oceanic and Atmospheric Administration (NOAA), Commerce.

ACTION: Notice of public meetings.

SUMMARY: The Mid-Atlantic Fishery Management Council (Council), its Visioning Committee and its Executive Committee will hold public meetings.

DATES: The meetings will be held Tuesday, August 16 through Thursday, August 18, 2011. See SUPPLEMENTARY INFORMATION for specific dates and times.

ADDRESSES: The meetings will be held at the Sheraton Suites, 422 Delaware Ave., Wilmington, DE 19801; telephone: (302) 654-8300.

Council address: Mid-Atlantic Fishery Management Council, 800 N. State St., Suite 201, Dover, DE 19901-3910; telephone: (302) 674-2331.

FOR FURTHER INFORMATION CONTACT: Dr. Christopher Moore, Executive Director, Mid-Atlantic Fishery Management Council; telephone: (302) 674-2331 ext. 255.

SUPPLEMENTARY INFORMATION: On Tuesday, August 16, the Visioning Committee will meet from 9 a.m. until 5 p.m. There will be a Public Listening Session from 5 until 6:30 p.m. On Wednesday, August 17, the Executive Committee will meet from 8 until 9 a.m. The Council will convene at 9 a.m. Swearing in of new and reappointed Council members and election of Council Officers will be from 9 until 9:15 a.m. From 9:15 a.m. until 4 p.m., the Council will finalize scup, black sea bass, summer flounder, and bluefish management measures for 2012 in conjunction with the Atlantic States Marine Fisheries Commission's (ASMFC) Summer Flounder, Scup, Black Sea Bass, and Bluefish Boards. From 4 until 5 p.m., Research Set Aside priorities will be discussed for 2013. On Thursday August 18, the Council will convene at 8:30 a.m. From 8:30 a.m. until 1 p.m., the Council will conduct its regular Business Session, receive Council Liaison Reports, Monkfish Amendment 6 Overview, Organizational Reports, Executive Director's Report, Science Report, Committee Reports, and any continuing and/or new business.

Agenda items by day for the Council's Committees and the Council itself are: On Tuesday, August 16, the Visioning Committee will discuss an overview of the Visioning project and the expected outcomes, an update on the Communications and Data Gathering Plans, data gathering logistics, maximizing stakeholder participation, review of survey instrument, and discuss any focus group topic areas. There will be a Public Listening Session where the Council invites the public to engage Council leadership and NMFS representatives in a Q & A roundtable session. Those in attendance will be able to ask questions or comment on any issue related to Mid-Atlantic Fisheries Management including annual specifications, ecosystem management, bycatch reduction, catch shares, etc. On Wednesday, August 17, the Executive Committee will meet to receive an update on SSC Ecosystems Sub-Committee activities. New and reappointed Council members will be sworn into office and there will be an election of Council Officers. The Council in conjunction with the Atlantic States Marine Fisheries Commission's (ASMFC) Summer Flounder, Scup, Black Sea Bass and Bluefish Boards will review the Scientific and Statistical Committee's (SSC) and the associated Monitoring Committee's and Advisory Panel's specification recommendations for 2012 and adopt 2012 commercial and recreational harvest levels and commercial management measures for the summer flounder, scup, black sea bass and bluefish fisheries. Research Set-Aside Priorities will be discussed for 2013. The Council will hold its regular Business Session to approve the June 2011 minutes and address any outstanding actions from the June 2011 meeting, receive Liaison Reports, receive an overview of Amendment 6 to the Monkfish FMP and Council recommendations to the Monkfish O/S Committee, Organizational Reports to include the SAW/SARC 52 report, the Executive Director's Report, the Science Report, Committee Reports, and any continuing and/or new business.

Special Accommodations

This meeting is physically accessible to people with disabilities. Requests for sign language interpretation or other auxiliary aid should be directed to M. Jan Saunders, (302) 526-5251, at least 5 days prior to the meeting date.

Dated: July 22, 2011.
Tracey L. Thompson,
Acting Director, Office of Sustainable Fisheries, National Marine Fisheries Service.

[FR Doc. 2011-19045 Filed 7-27-11; 8:45 am]

BILLING CODE 3510-22-P